ANTITRUST MODERNIZATION COMMISSION

Public Meeting

AGENCY: Antitrust Modernization Commission.

ACTION: Notice of public meeting.

SUMMARY: The Antitrust Modernization Commission will hold a public meeting on October 20, 2004. The purpose of the meeting will be to (1) discuss the criteria and processes upon which the Commission will employ in selecting issues for further study and (2) discuss the nature of the report the Commission will issue.

DATES: October 20, 2004, 10 a.m. until 1 p.m., unless earlier adjourned. All interested members of the public may attend. Registration is not required.

ADDRESSES: Federal Trade Commission, Conference Center Rooms A & B, 601 New Jersey Avenue, NW., Washington, DC.

FOR FURTHER INFORMATION CONTACT: Andrew J. Heimert, Executive Director & General Counsel, Antitrust Modernization Commission: telephone: (202) 326-2487; e-mail: info@amc.gov. Mr. Heimert is also the Designated Federal Officer (DFO) for the Antitrust Modernization Commission.

SUPPLEMENTARY INFORMATION: The Antitrust Modernization Commission was established to “examine whether the need exists to modernize the antitrust laws and to identify and study related issues.” Antitrust Modernization Commission Act of 2002, Pub. L. 107-273, § 11053, 116 Stat. 1856.

The AMC has called this meeting pursuant to its authorizing statute and the Federal Advisory Committee Act. Antitrust Modernization Commission Act of 2002, Pub. L. 107-273, § 11058(f), 116 Stat. 1758, 1857; Federal Advisory Committee Act, 5 U.S.C. App. 10(a)(2); 41 CFR 102-3.150 (2003).

Dated: September 27, 2004.
By direction of Deborah A. Garza, Chair of the Antitrust Modernization Commission.
Approved by Designated Federal Officer:
Andrew J. Heimert,
Executive Director & General Counsel, Antitrust Modernization Commission.

[FR Doc. 04-22307 Filed 10-4-04; 8:45 am]

BILLING CODE 6820-YM-P